NATIONAL ARCHIVES AND RECORDS ADMINISTRATION

[NARA-2019-020]

Agency Information Collection Activities: Submission for OMB Review; Comment Request

AGENCY: National Archives and Records Administration (NARA).

ACTION: Notice.

SUMMARY: NARA is providing notice that we have submitted to OMB for approval the information collection described in this notice. We invite you to comment on the proposed information collection, pursuant to the Paperwork Reduction Act of 1995.

DATES: Submit comments in writing to OMB at the address below on or before May 30, 2019.

ADDRESSES: Send comments to Nicholas Fraser, Desk Officer for NARA, by mail to Office of Management and Budget; New Executive Office Building; Washington, DC 20503, by fax to 202-395-5167, or by email to Nicholas_A._Fraser@omb.eop.gov.

FOR FURTHER INFORMATION CONTACT: Tamee Fechhelm by phone at 301.837.1694 or by fax at 301.837.7409, with requests for additional information or copies of the proposed information collection and supporting statement.

SUPPLEMENTARY INFORMATION: Pursuant to the Paperwork Reduction Act of 1995 (Pub. L. 104-13), we invite the public and other Federal agencies to comment on proposed information collections. We published a notice of proposed collection for this information collection on February 15, 2019 (84 FR 4542) and received no comments. We have therefore submitted the described information collection to OMB for approval.

In response to this notice, comments and suggestions should address one or more of the following points: (a) Whether the proposed information collection is necessary for proper performance of NARA's functions; (b) the accuracy of our estimate of the proposed information collection's burden; (c) ways to enhance the quality, utility, and clarity of the information we're proposing to collect; (d) ways to minimize the information collection's burden on respondents, including use of information technology; and (e) whether the collection affects small. In this notice, we are soliciting comments concerning the following information collection:

Title: Facility Access Media (FAM) Request (changing from Identification Card Request).

OMB number: 3095-0057.

Agency form numbers: NA Form 6006.

Type of review: Regular.

Affected public: Individuals or households.

Estimated number of respondents: 1,500.

Estimated time per response: 3 minutes.

Frequency of response: On occasion.

Estimated total annual burden hours: 75.

Abstract: All people requiring recurring access to non-public areas of NARA's facilities and IT network (“applicants”) use the Facility Access Media (FAM) Request, NA Form 6006, to request and obtain NARA facility access media (FAM). This includes NARA employees, contractors, volunteers, NARA-related foundation employees and volunteers, interns, and other non-NARA Federal employees, such as Federal agency reviewers. After NARA approves the request, we provide the applicant with a FAM, and they are then able to access non-public areas of NARA facilities and IT network.

We must collect their personally identifying information to comply with Homeland Security Presidential Directive (HSPD)-12 requirements for secure and reliable forms of personal identification issued by Federal agencies to their employees, contractors, and other individuals requiring recurring access to non-public areas of Government facilities and information services. We are changing the form and the information collection (name and some of the content) from “identification card” to “facility access media” to comply with changes in Government-wide terminology so that the request refers to all types of access media, not just identification cards.

Swarnali Haldar,
Executive for Information Services/CIO.

[FR Doc. 2019-08673 Filed 4-29-19; 8:45 am]

BILLING CODE 7515-01-P